DEPARTMENT OF AGRICULTURE

Animal and Plant Health Inspection Service

7 CFR Part 301

Pine Shoot Beetle; Addition to Quarantined Areas

CFR Correction

In Title 7 of the Code of Federal Regulations, parts 300 to 399, revised as of January 1, 2001, appearing on page 34 and 35, § 301.50-3(d) is removed. The text was removed by an amendment published at 64 FR 387, January 5, 1999.

[FR Doc.01-55522 Filed 9-5-01; 8:45 am]

BILLING CODE 1505-01-D